DEPARTMENT OF TRANSPORTATION

Office of the Secretary

Notice of Applications for Certificates of Public Convenience and Necessity and Foreign Air Carrier Permits Filed Under Subpart B (Formerly Subpart Q) During the Week Ending May 24, 2002

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2002-12355.

Date Filed: May 21, 2002.

Due Date for Answers, Conforming Applications, or Motion to Modify Scope: June 11, 2002.

Description: Application of AeroSvit Airlines, pursuant to 49 U.S.C. 41302, Part 211, and Subpart B, requesting a foreign air carrier permit to engage in scheduled and Charter combination service between Ukraine and the United States.

Docket Number: OST-2002-12358.

Date Filed: May 21, 2002.

Due Date for Answers, Conforming Applications, or Motion to Modify Scope: June 11, 2002.

Description: Application of M & N Aviation, Inc., pursuant to 49 U.S.C. 41738 and Subpart B, requesting authority to engage in scheduled passenger service as a commuter air carrier.

Docket Number: OST-2002-12370.

Date Filed: May 22, 2002.

Due Date for Answers, Conforming Applications, or Motion to Modify Scope: June 12, 2002.

Description: Application of Air Japan Co., Ltd. (AJX), pursuant to 49 U.S.C. 41301, et seq., 14 CFR part 211, and subpart B, requesting a foreign air carrier permit to engage in scheduled foreign air transportation of persons, property, and mail between any point or points in Japan and any point or points in the United States and charter authority, consistent with AJX's exiting exemption authority.

Dorothy Y. Beard,
Federal Register Liaison.

[FR Doc. 02-14224 Filed 6-5-02; 8:45 am]

BILLING CODE 4910-62-P